DEPARTMENT OF ENERGY

Federal Energy Regulatory Commission

[Docket No. CP04-118-000]

Northern Natural Gas Company; Notice of Request Under Blanket Authorization

April 27, 2004.

Take notice that on April 19, 2004, Northern Natural Gas Company (Northern), 1111 South 103rd Street, Omaha, Nebraska 68124, filed in Docket No. CP04-118-000 an application pursuant to Northern's blanket authority granted on September 1, 1982, at Docket No. CP82-401-000 and sections 157.205, 157.208, and 157.216 of the Commission's Regulations for authorization to replace, modify, and operate various pipeline facilities in Iowa, all as more fully set forth in the request which is on file with the Commission and open to public inspection.

Northern proposes to (1) replace and operate approximately 331 feet of 16-inch diameter pipe on the existing Des Moines B-Line (B-Line) with like-for-like 16-inch diameter pipe located in Dallas and Polk Counties; (2) install and operate overpressure protection facilities on the 16-inch diameter B-Line at Northern's existing Royal Estates Town Border Station in Polk County; and (3) up-rate the maximum allowable operating pressure (MAOP) on approximately 23 miles of the B-Line in Boone, Dallas and Polk Counties, and to operate this segment of pipeline at the higher MAOP (Northern previously received authority to upgrade the MAOP on its B-Line in Docket No. CP04-28-000 for 30 miles, but will now only upgrade 23 miles).

Northern estimates that it will spend $150,000 of internally generated funds to construct the new pipeline facilities, collectively known as the Pleasant Hill II project. Northern states that it needs to construct and operate the proposed Pleasant Hill facilities in order to meet its firm contractual obligations of 96,000 MMBtu equivalent of natural gas per day to MidAmerican Energy Company (MidAmerican).¹

¹ Northern Natural Gas Company, 103 FERC ¶ 62,028 (2003).

Any questions regarding this application should be directed to Michael T. Loeffler, Director, Certificates and Reporting for Northern, 1111 South 103rd Street, Omaha, Nebraska 68124, at (402) 398-7103 or Donna Martens, Senior Regulatory Analyst, at (402) 398-7138.

This filing is available for review at the Commission or may be viewed on the Commission's Web site at http://www.ferc.fed.gov using the “eLibrary” link. Enter the docket number excluding the last three digits in the docket number field to access the document. For assistance, please contact FERC Online Support at FERCOnlineSupport@ferc.gov or toll-free at (866) 208-3676, or for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 855.214) a motion to intervene or notice of intervention and pursuant to Section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the Natural Gas Act.

Comment Date: June 11, 2004.

Magalie R. Salas,
Secretary.

[FR Doc. E4-982 Filed 4-30-04; 8:45 am]

BILLING CODE 6717-01-P